DEPARTMENT OF JUSTICE

Notice of Lodging of Proposed Consent Decree Under the Oil Pollution Act of 1990 and Section 128d of the Hawaii Environmental Response Law

On November 20, 2014, the Department of Justice lodged a proposed Consent Decree (“Consent Decree”) with the United States District Court for the District of Hawaii in an action entitled United States of America and the State of Hawaii v. Denak Ship Management and Vogetrader Shipping Inc., Civil Action No. 14-00529.

In this action, the United States and the State of Hawaii filed a joint complaint against Denak Ship Management and Vogetrader Shipping Inc. (“Defendants”) pursuant to Sections 1002(a), (b)(1)(A) and (b)(2)(A), of the Oil Pollution Act of 1990, 33 U.S.C. 2701 et seq., or Section 128D of the Hawaii Environmental Response law, Haw. Rev. Stat. § 128D, respectively, to recover for natural resource damages arising from the February 5, 2010, grounding of the M/V Vogetrader on coral reef habitat outside the entrance channel to Barbers Point Harbor, Oahu, Hawaii.

The Consent Decree requires the Defendants to pay eight hundred forty thousand dollars ($840,000) in natural resource damages. Of this sum, six hundred ninety five thousand six hundred fifty seven dollars ($695,657) shall be paid to the United States Department of Commerce, National Oceanic and Atmospheric Administration (“NOAA”) on behalf of the natural resource trustees and will be used for the design, implementation, and oversight of restoration projects. The remaining one hundred forty four thousand three hundred forty three dollars ($144,343) shall be paid to NOAA for reimbursement of its natural resource damage assessment costs.

The publication of this notice opens a period for public comment on the Consent Decree. Comments should be addressed to the Assistant Attorney General, Environment and Natural Resources Division, and should refer to United States of America and the State of Hawaii v. Denak Ship Management and Vogetrader Shipping Inc., D.J. Ref. No. 90-5-1-1-11013. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide paper copies of the Consent Decree upon written request and payment of reproduction costs. Please mail your request and payment to: Consent Decree Library, U.S. DOJ—ENRD, P.O. Box 7611, Washington, DC 20044-7611.

Please enclose a check or money order for $5.25 (25 cents per page reproduction cost) for the Consent Decree payable to the United States Treasury.

Henry Friedman,
Assistant Section Chief, Environmental Enforcement Section, Environment and Natural Resources Division.

[FR Doc. 2014-28340 Filed 12-1-14; 8:45 am]

BILLING CODE 4410-15-P